DEPARTMENT OF TRANSPORTATION

Federal Aviation Administration

14 CFR Part 39

[Docket No. FAA-2020-0214; Product Identifier 2018-SW-039-AD; Amendment 39-21178; AD 2020-15-15]

RIN 2120-AA64

Airworthiness Directives; Airbus Helicopters

AGENCY: Federal Aviation Administration (FAA), Department of Transportation (DOT).

ACTION: Final rule.

SUMMARY: The FAA is adopting a new airworthiness directive (AD) for all Airbus Helicopters Model EC225LP helicopters. This AD was prompted by a mechanical deformation found on the protective cover of the “SHEAR” control pushbutton installed on a copilot collective stick. This AD requires modification of the helicopter by replacing the protective cover and re-identifying the part number of the pilot and copilot collective sticks. The FAA is issuing this AD to address the unsafe condition on these products.

DATES: This AD is effective September 3, 2020.

The Director of the Federal Register approved the incorporation by reference of a certain publication listed in this AD as of September 3, 2020.

ADDRESSES: For service information identified in this final rule, contact Airbus Helicopters, 2701 N Forum Drive, Grand Prairie, TX 75052; telephone (972) 641-0000 or (800) 232-0323; fax (972) 641-3775; or at https://www.airbus.com/helicopters/services/technical-support.html. You may view this service information at the FAA, Office of the Regional Counsel, Southwest Region, 10101 Hillwood Pkwy., Room 6N-321, Fort Worth, TX 76177. For information on the availability of this material at the FAA, call 817-222-5110. It is also available on the internet at https://www.regulations.gov by searching for and locating Docket No. FAA-2020-0214.

Examining the AD Docket

You may examine the AD docket on the internet at https://www.regulations.gov by searching for and locating Docket No. FAA-2020-0214; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Clark Davenport, Flight Test Analyst, Flight Test Branch, FAA, 10101 Hillwood Pkwy., Fort Worth, TX 76177; telephone 817-222-5151; email clark.davenport@faa.gov.

SUPPLEMENTARY INFORMATION:

Discussion

The FAA issued a notice of proposed rulemaking (NPRM) to amend 14 CFR part 39 by adding an AD that would apply to all Airbus Helicopters Model EC225LP helicopters. The NPRM published in the Federal Register on April 8, 2020 (85 FR 19707). The NPRM was prompted by a mechanical deformation found on the protective cover of the “SHEAR” control pushbutton installed on a copilot collective stick. The NPRM proposed to require modification of the helicopter by replacing the protective cover and re-identifying the part number of the pilot and copilot collective sticks. The FAA is issuing this AD to address mechanical deformation on the protective cover of the “SHEAR” control pushbutton installed on a copilot collective stick, which could lead to unintended shearing of the hoist cable, possibly resulting in loss of a hoisted load or person(s).

The European Aviation Safety Agency (now European Union Aviation Safety Agency) (EASA), which is the Technical Agent for the Member States of the European Union, has issued EASA AD 2018-0106, dated May 10, 2018 (referred to after this as the Mandatory Continuing Airworthiness Information, or “the MCAI”), to correct an unsafe condition for all Airbus Helicopters Model EC225LP helicopters. You may examine the MCAI in the AD docket on the internet at https://www.regulations.gov by searching for and locating Docket No. FAA-2020-0214.

Comments

The FAA gave the public the opportunity to participate in developing this final rule. The FAA has considered the comment received. Artem Svetlovsky agreed with the NPRM.

Conclusion

The FAA reviewed the relevant data and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

Airbus Helicopters has issued Alert Service Bulletin EC225-67A017, Revision 0, dated March 26, 2018. This service information describes procedures for modification of the helicopter by replacing the protective cover of the “SHEAR” control pushbutton and re-identifying the part number of the pilot and copilot collective sticks. This service information is reasonably available because the interested parties have access to it through their normal course of business or by the means identified in the ADDRESSES section.

Costs of Compliance

The FAA estimates that this AD affects 12 helicopters of U.S. registry. The FAA estimates the following costs to comply with this AD:

Estimated Costs for Required Actions
Labor cost | Parts cost | Cost per product | Cost on U.S. operators
2 work-hours × $85 per hour = $170 | $2,632 | $2,802 | $33,624

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-15-15 Airbus Helicopters: Amendment 39-21178; Docket No. FAA-2020-0214; Product Identifier 2018-SW-039-AD.

(a) Effective Date

This AD is effective September 3, 2020.

(b) Affected ADs

None.

(c) Applicability

This AD applies to all Airbus Helicopters Model EC225LP helicopters, certificated in any category.

(d) Subject

Joint Aircraft Service Component (JASC) Code 67, Rotorcraft Flight Controls.

(e) Reason

This AD was prompted by a mechanical deformation found on the protective cover of the “SHEAR” control pushbutton installed on a copilot collective stick. The FAA is issuing this AD to address this condition, which could lead to unintended shearing of the hoist cable, possibly resulting in loss of a hoisted load or person(s).

(f) Compliance

Comply with this AD within the compliance times specified, unless already done.

(g) Definitions

For the purposes of this AD, the definitions specified in paragraphs (g)(1) through (3) of this AD apply.

(1) Affected part: A pilot or copilot collective stick having part number (P/N) 704A41110139, equipment manufacturer NSE P/N N2000355.

(2) Group 1 helicopters: Helicopters that have an affected part installed.

(3) Group 2 helicopters: Helicopters that do not have an affected part installed. A helicopter that has embodied Airbus Helicopters Modification 332P084165 in production is a Group 2 helicopter, provided that helicopter remains in that configuration.

(h) Required Actions

For Group 1 helicopters: At the applicable compliance time specified in Table 1 to paragraph (h) of this AD, modify the helicopter by replacing the protective cover of the “SHEAR” control pushbutton and re-identifying the part number of the pilot and copilot collective sticks, in accordance with the Accomplishment Instructions of Airbus Helicopters Alert Service Bulletin EC225-67A017, Revision 0, dated March 26, 2018.

(i) Parts Installation Prohibition

At the applicable times specified in paragraphs (i)(1) and (2) of this AD: Do not install on any helicopter a “SHEAR” control pushbutton protective cover having P/N 700070 on the pilot or copilot collective stick, and do not install on any helicopter a pilot or copilot collective stick having P/N 704A41110139 (equipment manufacturer NSE P/N N2000355).

(1) For Group 1 helicopters: After modification of the helicopter as required by paragraph (h) of this AD.

(2) For Group 2 helicopters: From the effective date of this AD.

(j) Alternative Methods of Compliance (AMOCs)

(1) The Manager, Rotorcraft Standards Branch, FAA, may approve AMOCs for this AD. Send your proposal to: Clark Davenport, Flight Test Analyst, Flight Test Branch, FAA, 10101 Hillwood Pkwy., Fort Worth, TX 76177; telephone 817-222-5110; email 9-ASW-FTW-AMOC-Requests@faa.gov.

(2) For operations conducted under a 14 CFR part 119 operating certificate or under 14 CFR part 91, subpart K, notify your principal inspector or lacking a principal inspector, the manager of the local flight standards district office or certificate holding district office, before operating any aircraft complying with this AD through an AMOC.

(k) Related Information

(1) The subject of this AD is addressed in European Aviation Safety Agency (now European Union Aviation Safety Agency) (EASA) AD 2018-0106, dated May 10, 2018. This EASA AD may be found in the AD docket on the internet at https://www.regulations.gov by searching for and locating Docket No. FAA-2020-0214.

(2) For more information about this AD, Clark Davenport, Flight Test Analyst, Flight Test Branch, FAA, 10101 Hillwood Pkwy., Fort Worth, TX 76177; telephone 817-222-5151; email clark.davenport@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Helicopters Alert Service Bulletin EC225-67A017, Revision 0, dated March 26, 2018.

(ii) [Reserved]

(3) For service information identified in this AD, contact Airbus Helicopters, 2701 N Forum Drive, Grand Prairie, TX 75052; telephone (972) 641-0000 or (800) 232-0323; fax (972) 641-3775; or at https://www.airbus.com/helicopters/services/technical-support.html.

(4) You may view this service information at the FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email fedreg.legal@nara.gov, or go to: https://www.archives.gov/federal-register/cfr/ibr-locations.html.

Issued on July 16, 2020.
Lance T. Gant,
Director, Compliance & Airworthiness Division, Aircraft Certification Service.

[FR Doc. 2020-16415 Filed 7-29-20; 8:45 am]

BILLING CODE 4910-13-P